DEPARTMENT OF THE INTERIOR

Minerals Management Service

Outer Continental Shelf (OCS) Connect Initiative

AGENCY: Minerals Management Service (MMS), Interior.

ACTION: Request for Comments concerning Offshore Minerals Management Program's e-Government Initiative.

SUMMARY: This notice provides the basis and rationale for the e-Government Initiative, OCS Connect. The purpose of publishing this notice is to provide information to the public on the objectives of OCS Connect and to solicit public feedback with respect to project development.

DATES: We will consider all comments we receive by October 6, 2003. We will begin reviewing comments then and may not fully consider comments we receive after October 6, 2003.

ADDRESSES: Interested parties may send comments regarding the OCS Connect Initiative and this Notice to the Chief, e-Gov Transformation Project; Minerals Management Service; Mail 4009; 381 Elden Street; Herndon, Virginia 20170-4817.

FOR FURTHER INFORMATION CONTACT: Gary L. Lore, Chief, e-Gov Project Management Office; Mail Stop 4009; Minerals Management Service; 381 Elden Street; Herndon, Virginia 20170-4817; Telephone (703) 787-1623; e-mail ommegov@mms.gov.

SUPPLEMENTARY INFORMATION: OCS Connect is a comprehensive reform project that will be a phased, multiyear e-Government transformation of the Offshore Minerals Management (OMM) program. OCS Connect was mandated by legislation and federal guidance under the Information Technology Management Reform Act of 1996 (Clinger-Cohen Act), the Government Paperwork Elimination Act of 1999, and the Government Paperwork Reduction Act of 1995. OCS Connect will dramatically reform and streamline business operations by fiscal year 2008. By moving to on-line services, the organization will be more “connected” to customers: industry, citizens, and other governmental agencies.

OMM's Vision for OCS Connect

To facilitate customized and electronic information exchange between MMS and its OCS customers—industry, citizens, and other governmental agencies.

Goals of OCS Connect

• Increase ease of use and allow better access to stakeholders for OMM's services and information.

• Decrease cycle time to receive and process stakeholder requests.

• Increase collaboration and information sharing within OMM and between constituencies.

• Increase the quantity and quality of value-added analysis of offshore resources.

• Improve data and information capabilities.

Scope of OCS Connect

Currently, OMM relies heavily on paper-based processes and systems. The recent evolution in internet technologies has presented a unique opportunity for OMM to minimize paper-based processes, to improve data management, and to increase the efficiency of its workforce. OCS Connect will allow the OMM to transform their traditional business practices to more efficient, streamlined business practices.

Traditional business practices | Streamlined business practices
Paper-based processes cause long lead times in approval process for permits | Standardized, online electronic permit filing, reporting and approvals significantly reduce cycle times.
Multiple filings required with different government bodies | Data standards will facilitate electronic exchange of data with different government bodies and reduce the number of redundant filings.
Multiple data sources available in different locations for information sharing | Portals offer one-stop “shopping” for information exchange.
Multiple data formats | Standardized, industry accepted data formats enable efficient information sharing throughout the E&P industry.

Benefits of OCS Connect to Stakeholders

In addition, Industry will be able to enter a single portal to receive information and conduct more efficient online exploration, development, and production transactions, resulting in time and cost savings.

Citizens will be able to enter a single portal that delivers customized and user-friendly information and encourages increased online participation in the oil and gas regulatory and planning processes.

Governmental agencies will share common data, exchange standards and future applications. Multiple agencies may access an online permitting system to obtain information, conduct reviews and approve industry requests.

Privacy and security will be provided through secure data architecture to ensure confidentiality of necessary data and requests by stakeholders.

The Overall Result

The OMM will be more customer-focused, efficient, and effective in serving their constituencies through streamlined business execution.

Specific Deliverables Due to Workflow Automation by OCS Connect
| Explanation of the OCS connect deliverable
Data Related Deliverables from OCS Connect:
Singular Enterprise Architecture Development | A baseline enterprise architecture will be developed to include stakeholders, business, data, applications, technology and the relationships among them. Architecture will be leveraged into other governmental bureaus for consistency.
Consistent Established Data Standards | Established data standards will expedite data utilization and interpretation thereby reducing cycle time. For example:
| • Reduces time validating data;
| • Expedites quality control of data;
| • Reduces data loading time;
| • Facilitates interface between software suites;
| • Facilitates data sharing and collaboration;
| • Ensures consistency in State and Local spatial data for ease of use.
Electronic Data Stores | Different data sets stored for ease of retrieval for various data interpretation such as:
| • G&G data—well logs and data, seismic data;
| • Gravity and magnetic data;
| • Marine cadastral data sets;
| • Production data;
| • Lease history data;
| • Thematic maps.
Electronic Data Submission | Data can be submitted electronically instead of in a manual, paper based process. Types of data will include, but not be limited to:
| • Reservoir data such as run tickets and liquid verification reports, gas verification and volume reports;
| • Weekly activity reports;
| • G&G data such as well logs and analyses, seismic data;
| • Plans & Permits;
| • Land legal requests.
Data Storage, Indexing and Retrieval of Data | Holistic approach to data access will allow the lessee to pull all G&G, leasing, adjudication, permitting, plan, production, and reserves information on each asset.
Secure Data Architecture | Allows for privacy in data access and for submittal of operators data.
Enhanced Data Management | Improved electronic processes will ensure efficient utilization of data by allowing access to the right data at the right time.
Reduced Cycle Time for Data Analysis | Consistency of data will allow faster, improved analysis of an asset regarding permits, plans, lease sales, and environmental analysis.
Data Repository Enabling Life Cycle Review of Leases | A centralized repository that stores historical and current data on lessees and operators will allow for automatic information retrieval once security clearances have been approved. Lessees and operators will be able to work from prepopulated information forms reducing resubmission of information. Full lease history and interactions with the OMM can be retrieved.
Outreach Related Deliverables from OCS Connect:
Online Rulemaking/Online Commenting | Migration of rulemaking and customer commenting to an online forum will expedite comment review.
Integration of Multiple Government Agencies Requirements | Coordination of reporting requirements across governmental entities reduces time as paperwork does not have to be submitted multiple times in multiple formats. For example:
| • The Coast Guard's requirements have been incorporated into the Well Permitting and Reporting System.
Singular Portal Interface | One portal interface will be organized around the functions for the oil and gas stakeholders to provide a full suite of services for:
| • Leasing;
| • Plans, permits, and pipelines;
| • Reporting;
| • Inspections and compliance;
| • OCS information;
| • OCS maps.
Electronic Environmental Assessments and Monitoring | Shared data access to environmental studies will assist in quicker approvals and compliance as well as environmental impact mitigation monitoring.
Electronic Submission and Online Permitting | Requests will not be paper-based, thereby, reducing complexity of submittals and submittal time because system will allow electronic submission of attachments:
| • G&G permits;
| • Platform structure permits;
| • Production facility permits;
| • Lease term pipeline applications.
Shortened Approval Processes | Electronic submission of information speeds up approval processes, and thereby, reduces tendency for stakeholders to over-submit paperwork in order to avoid re-submission caused by informal rejections. Shortens request time for:
| • New Producible Lease Determinations;
| • Lease Suspension Requests;
| • Miscellaneous applications such as commingling, unitization, reservoir reclassifications, abandonment zones, etc.;
| • Deep water royalty relief requests;
| • Decommissioning requests.
Electronic Notification and Tracking | Courtesy notifications will be sent to stakeholders from the OMM regarding needed filings. Also, the status and progress of requests can be tracked.
Time Saving Deliverables from OCS Connect:
Online Commenting Reduces “Time to Lease Sale” | Expedites OMM's time to decision making over current paper-based commenting, such as:
| • Reduces manual reconciliation of public and industry commenting regarding regulations, laws and lease sales;
| • Allows faster compliance and approvals from other governmental agencies;
| • Reduces OMM's analysis and definition of the lease sale terms and conditions.
Automated System Reduces “Time to Approval” | Expedites OMM's analyses and approvals of Exploration, Development and Production plans of leases.
| • Faster consolidation of public, public interest groups and industry comments;
| • Faster access to additional data requests from the operator;
| • Faster approval cycle.
Comprehensive Life Cycle View of Asset | Allows stakeholders the ability to view historical, publicly-available data surrounding the whole life cycle of an asset from:
| • A well life cycle perspective;
| • A production life cycle perspective;
| • A reserves perspective;
| • A lease life cycle perspective;
| • A permitting life cycle;
| • An approval life cycle;
| • A compliance life cycle.

More detailed information regarding the OCS Connect Initiative can be found at:

1. http://www.mms.gov/ommegov/.

2. http://www.gomr.mms.gov.

OMM Business Cluster

OMM has identified 14 Business Process Clusters which are listed in the table below as potential candidates for re-engineering. We are interested in your views as to the importance of these 14 Business Clusters to your organization; therefore, please give us your overall comments on the merits of re-engineering these clusters. You may note those that work well or are most in need of improvement. We are particularly interested in any suggestions you may have regarding examples of best practices for particular business processes.

1. Public Commenting.

2. Manage Regulations, Laws and NTLS.

3. Produce and Maintain Thematic Maps and Official Cadastral Descriptions.

4. Protect Environmental Resources.

5. Manage and Administer Leasing Program.

6. Monitor Lessee and Operator Activity.

7. Manage Permit Requests.

8. Manage Plan Submittals.

9. Analyze and Coordinate G&G Reviews and Interpretations.

10. Manage Reserves Inventory Program and Perform Resource Assessment.

11. Perform Data Management.

12. Develop and Support IT/IS Environment.

13. Perform Economic Analysis, Determine Fair Market Value and Forecast Production.

14. Inspect Operations and Enforce Regulations.

For a more detailed explanation of OMM's Business Process Clusters, please go to the below internet link: http://www.mms.gov/ommegov/PDF/OMM%20Business%20Process%20Clusters.pdf.

Comments

After reading the Notice summarizing the OCS Connect Initiative, please provide us your overall impression of the OCS Connect Initiative. We would like your comments as to OCS Connect's impact on the openness and information exchange between OMM and its Stakeholders, its overall scope, additional key elements needed for its successful implementation, any particular benefits or concerns you may have regarding the initiative. Please also tell us what type of Stakeholder you are to the OMM.

Send comments in response to this notice directly to the office listed under the ADDRESSES section of this notice.

Dated: July 31, 2003.
Gary L. Lore,
Chief, e-Gov Transformation Project.

[FR Doc. 03-20058 Filed 8-5-03; 8:45 am]

BILLING CODE 4310-MR-P